DEPARTMENT OF COMMERCE

International Trade Administration

The Burnham Institute; Notice of Decision on Application for Duty-Free Entry of Scientific Instrument

This decision is made pursuant to section 6(c) of the Educational, Scientific, and Cultural Materials Importation Act of 1966 (Pub. L. 89-651, 80 Stat. 897; 15 CFR part 301). Related records can be viewed between 8:30 a.m. and 5 p.m. in Room 4211, U.S. Department of Commerce, 14th and Constitution Avenue, NW., Washington, DC.

Docket Number: 01-011. Applicant: The Burnham Institute, La Jolla, CA 92037. Instrument: Brain Slice Physiology Setup. Manufacturer: Luigs and Neumann, Germany. Intended Use: See notice at 66 FR 31211, June 11, 2001.

Comments: None received. Decision: Approved. No instrument of equivalent scientific value to the foreign instrument, for such purposes as it is intended to be used, is being manufactured in the United States. Reasons: The foreign instrument provides: (1) Computer control of microscope and micromanipulator positioning, (2) study of very small cells and neuronal processes over a long period of time (minutes to hours), (3) arrangement of up to seven manipulators around the microscope and (4) compatibility with existing equipment being used currently in the laboratory. The National Institutes of Health advises in its memorandum of July 2, 2001 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 01-18668 Filed 7-25-01; 8:45 am]

BILLING CODE 3510-DS-P